DEPARTMENT OF THE INTERIOR

National Park Service

[2253-665]

Notice of Intent to Repatriate Cultural Items: California Department of Parks and Recreation, Sacramento, CA

AGENCY: National Park Service, Interior.

ACTION: Notice.

SUMMARY: The California Department of Parks and Recreation, in consultation with the appropriate tribes, has determined that the cultural items meet the definition of unassociated funerary objects and repatriation to the Indian tribes stated below may occur if no additional claimants come forward. Representatives of any Indian tribe that believes itself to be culturally affiliated with the cultural item may contact the California Department of Parks and Recreation.

DATES: Representatives of any Indian tribe that believes it has a cultural affiliation with the cultural item should contact the California Department of Parks and Recreation at the address below by May 2, 2012.

ADDRESSES: Rebecca Carruthers, NAGPRA Coordinator, California Department of Parks and Recreation, 1416 9th Street, Room 902, Sacramento, CA 95814, telephone (916) 653-8893.

SUPPLEMENTARY INFORMATION: Notice is here given in accordance with the Native American Graves Protection and Repatriation Act (NAGPRA), 25 U.S.C. 3005, of the intent to repatriate cultural items under the control of the California Department of Parks and Recreation that meet the definition of unassociated funerary objects under 25 U.S.C. 3001. The unassociated funerary objects were removed from twelve sites located in San Diego and Imperial counties, CA.

This notice is published as part of the National Park Service's administrative responsibilities under NAGPRA, 25 U.S.C. 3003(d)(3). The determinations in this notice are the sole responsibility of the museum, institution or Federal agency that has control of the Native American cultural item. The National Park Service is not responsible for the determinations in this notice.

History and description of the cultural item

The unassociated funerary objects were removed from twelve sites located in San Diego and Imperial Counties, CA. The geographical location of these sites indicates that the unassociated funerary objects were recovered within the historically documented territory shared by the Cahuilla and the Kumeyaay. Northern areas of the Anza Borrego Desert State Park, such as the San Felipe Creek drainage, Culp Valley, Pinyon Ridge, the Borrego Badlands, and the Borrego Valley, may have formed a so-called “transitional zone” between the Cahuilla and the Kumeyaay. The two groups would have used the areas jointly or, as convenient, for subsistence or ceremonial needs.

The traditional territory of the Kumeyaay includes a significant portion of present-day San Diego County up to the Aqua Hedionda area and inland along the San Felipe Creek (just south of Borrego Springs). Bound to the east by the Sand Hills in Imperial County and includes the southern end of the Salton Basin and all of the Chocolate Mountains, the territory extends southward to Todos Santos Bay, Laguna Salada and along the New River in northern Baja California. The central and southern portions of Anza Borrego Desert State Park lie within the traditional territory of the Kumeyaay.

The traditional aboriginal territory of the Cahuilla, as defined by anthropologist Lowell John Bean, encompasses a geographically diverse area of mountains, valleys and low desert zones. The southernmost boundary approximately followed a line from just below Borrego Springs to the north end of the Salton Basin and the Chocolate Mountains. The eastern boundary ran along the summit of the San Bernardino Mountains. The northern boundary stood within the San Jacinto Plain near Riverside, while the base of Palomar Mountain formed the western boundary. According to Bean and archeologist William D. Strong, the northern end of Anza Borrego Desert State Park lies within the traditional territory of the Cahuilla and includes the areas of Borrego Palm Canyon, Coyote Canyon, Clark Valley, the Santa Rosa Mountains, Jackass Flat, Rockhouse Canyon and Horse Canyon.

At an unknown date, Harvey Clark collected a small pottery bowl from site CA-SDI-4443 in the Barrel Springs area of Ocotillo Wells State Vehicular Recreation Area, an area of the park known to contain large village sites with cremation burials. The bowl is an unassociated funerary object based on the proximity of human cremation burials in the area and the personal nature of the object. Although the object does not appear to be heavily burned, it is more likely than not to have come from a funerary context.

At an unknown date, an unidentified individual collected one lot of charcoal samples from an unidentified cremation burial within Anza Borrego Desert State Park. In 1989, the objects were found in the Paul Ezell Archives at the Arizona State Museum and subsequently returned to the California Department of Parks and Recreation in 2000. The samples are unassociated funerary objects based upon the labels which read: “Charcoal Do Not Open, Yuman Inhumation, Anza-Borrego.”

At an unknown date prior to 1980, an unidentified individual collected a Haliotis ornament, 12 melted glass beads and three burnt pottery fragments from an unidentified site along the shoreline of the Salton Sea in Lower Borrego Valley. The objects were donated to the California Department of Parks and Recreation by Ada Jackson in 1980. The objects were recovered from the shoreline of the ancient Lake Cahuilla where there are extremely dense concentrations of habitation and cremation deposits. The objects are unassociated funerary objects based on the proximity of human cremation burials in the area, the burned exterior which is consistent with exposure to heat during cremation, and the description on the Haliotis ornament which states “Cremation Associated.”

Sometime in the 1970s, archeologist William Seidel collected a burnt potsherd from site D-7-5 northwest of Borrego Springs, CA, an area known to contain large village sites with cremation burials. The potsherd is an unassociated funerary object based on the proximity of human cremation burials, the personal nature of the object, and the burned exterior which is consistent with exposure to heat during cremation.

At an unknown date, Phil Benge collected a small pottery bowl from an unidentified site near Tamarisk Grove in Anza Borrego Desert State Park, an area known to contain major village sites with cremation burials. The bowl is an unassociated funerary object based on the proximity of human cremation burials in the area and the ceremonial nature of the object. Small bowls such as this were not ordinary household utilitarian vessels but were used by ceremonial leaders to mix medicinal and ceremonially ingested substances, sometimes used in funerary and mourning ceremonies. Although the object does not appear to be heavily burned, it is more likely than not to have come from a funerary context.

Sometime in the 1970s, archeologist William Seidel collected eight Olivella shell beads from an unidentified site south of the airport in Borrego Springs, CA, an area known to contain large village sites with cremation burials. The beads are unassociated funerary objects based upon the proximity of human cremation burials in the area and the ceremonial/personal nature of the objects. Although the objects do not appear to be heavily burned, they is more likely than not to have come from a funerary context.

At an unknown date between 1945 and 1955, Mrs. Jane Thomas collected one lot of over 200 burnt shell beads from an unidentified site in mesquite dunes in the Ocotillo Badlands east of Ocotillo Wells, an area known to contain large village sites with cremation burials. The beads are unassociated funerary objects based upon the proximity of human cremation burials in the area, the personal nature of the objects, and the burned exterior which is consistent with exposure to heat during cremation.

At an unknown date, B. Frizzel collected two burnt Olivella shell beads from an unidentified site near Ocotillo Wells in San Diego County, CA. The beads are unassociated funerary objects based upon the personal nature of the objects and the burned exterior which is consistent with exposure to heat during cremation.

At an unknown date, Harry Dick Ross collected one lot of over 80 burnt Olivella shell beads from an unidentified site in Lower Borrego Valley in San Diego and Imperial County, CA, an area known to contain large village sites with cremation burials. The beads are unassociated funerary objects based upon the proximity of human cremation burials in the area, the personal nature of the objects, and the burned exterior which is consistent with exposure to heat during cremation.

At an unknown date, an unidentified individual collected a pipe stem fragment from an unidentified site in the Harper Flat area of Anza Borrego Desert State Park. The object was donated to the California Department of Parks and Recreation by Harry D. Ross in 1979. This unassociated funerary object was recovered from an area known to contain large village sites with cremation burials. The pipe fragment to be an unassociated funerary object based upon the proximity of human cremation burials in the area and the ceremonial/personal nature of the object. Although the object does not appear to be heavily burned, it is more likely than not to have come from a funerary context.

At an unknown date, an unidentified individual collected one lot of more than 100 burnt beads, seven pipe fragments, a pottery ball, and a pottery object from an unidentified site in the Borrego Valley area of Anza Borrego Desert State Park. These objects were a part of the DuVall Collection, which was later donated to California Department of Parks and Recreation in the 1970s. The DuVall Collection represents cultural materials collected on and around an early settlers' ranch in Borrego Valley. Given the lack of specific provenience, the geographical location of the site is impossible to determine. Based on the provenience of the other objects from the DuVall Ranch in Borrego Valley, it can be reasonably assumed that these remains were collected from the same geographic region. These unassociated funerary objects are thought to have been collected from an area know to contain extensive habitation and burial deposits. The Borrego Sink was an area where both the Kumeyaay and the Cahuilla peoples came together for ceremonial events such as cremation and mourning ceremonies. The objects are unassociated funerary objects based on the ceremonial/personal nature of the objects common to cremation burials of the Kumeyaay and Cahuilla and the burned exterior which is consistent with exposure to heat during cremation.

At an unknown date, individuals (including DC Barbee, F. Fairchild, Ada Jackson, Harry D. Ross and Ben McCown) collected objects from an unknown number of archaeological sites and these materials were stored in the Borrego Archaeological Research Center in Anza Borrego Desert State Park. The unassociated funerary objects consist of 57 burnt shell beads, 6 pipe fragments and one small pottery bowl. Though no specific provenience information is available for these objects, they appear consistent with the material culture of Cahuilla or Kumeyaay in the region of Anza Borrego Desert State Park. In this region, pipes, shell beads, and small pottery bowls were often disposed of when a person died and was cremated. The objects are ceremonial/personal in nature, and although the object does not appear to be heavily burned, it is more likely than not to have come from a funerary context.

Determinations made by the California Department of Parks and Recreation

Officials of the California Department of Parks and Recreation have determined that:

• Pursuant to 25 U.S.C. 3001(3)(B), the 107 cultural items described above are reasonably believed to have been placed with or near individual human remains at the time of death or later as part of the death rite or ceremony and is believed, by a preponderance of the evidence, to have been removed from a specific burial site of a Native American individual.

• Pursuant to 25 U.S.C. 3001(2), there is a relationship of shared group identity that can be reasonably traced between the unassociated funerary objects and the Agua Caliente Band of Cahuilla Indians of the Agua Caliente Indian Reservation, California; Augustine Band of Cahuilla Indians, California (formerly the Augustine Band of Cahuilla Mission Indians of the Augustine Reservation); Cabazon Band of Mission Indians, California; Cahuilla Band of Mission Indians of the Cahuilla Reservation, California; Campo Band of Diegueno Mission Indians of the Campo Indian Reservation, California; Capitan Grande Band of Diegueno Mission Indians of California: Barona Group of Capitan Grande Band of Mission Indians of the Barona Reservation, California, and Viejas (Baron Long) Group of Capitan Grande Band of Mission Indians of the Viejas Reservation, California; Ewiiaapaayp Band of Kumeyaay Indians, California; Iipay Nation of Santa Ysabel, California (formerly the Santa Ysabel Band of Diegueno Mission Indians of the Santa Ysabel Reservation); Inaja Band of Diegueno Mission Indians of the Inaja and Cosmit Reservation, California; Jamul Indian Village of California; La Posta Band of Diegueno Mission Indians of the La Posta Indian Reservation, California; Los Coyotes Band of Cahuilla and Cupeno Indians, California (formerly the Los Coyotes Band of Cahuilla & Cupeno Indians of the Los Coyotes Reservation); Manzanita Band of Diegueno Mission Indians of the Manzanita Reservation, California; Mesa Grande Band of Diegueno Mission Indians of the Mesa Grande Reservation, California; Morongo Band of Mission Indians, California (formerly the Morongo Band of Cahuilla Mission Indians of the Morongo Reservation); Ramona Band of Cahuilla, California (formerly the Ramona Band or Village of Cahuilla Mission Indians of California); San Pasqual Band of Diegueno Mission Indians of California; Santa Rosa Band of Cahuilla Indians, California (formerly the Santa Rosa Band of Cahuilla Mission Indians of the Santa Rosa Reservation); Sycuan Band of the Kumeyaay Nation; and Torres-Martinez Desert Cahuilla Indians, California (formerly the Torres-Martinez Band of Cahuilla Mission Indians of California) (hereafter referred to as “The Tribes”).

Additional Requestors and Disposition

Representatives of any Indian tribe that believes itself to be culturally affiliated with the unassociated funerary object should contact Rebecca Carruthers, NAGPRA Coordinator, California Department of Parks and Recreation, 1416 9th Street, Room 902, Sacramento CA 95814, telephone (916) 653-8893, before May 2, 2012. Repatriation of the unassociated funerary objects to The Tribes may proceed after that date if no additional claimants come forward.

The California Department of Parks and Recreation is responsible for notifying The Tribes that this notice has been published.

Dated: March 28, 2012.
Sherry Hutt,
Manager, National NAGPRA Program.

[FR Doc. 2012-7876 Filed 3-30-12; 8:45 am]

BILLING CODE 4310-50-P